SECURITIES AND EXCHANGE COMMISSION

[File No. 500-1]

Pax Clean Energy, Inc.; Order of Suspension of Trading

April 28, 2009.

It appears to the Securities and Exchange Commission that there is a lack of current and accurate information concerning the securities of Pax Clean Energy, Inc., which are quoted on the OTC Bulletin Board and on the Pink Sheets operated by Pink Sheets OTC Markets Inc. under the ticker symbol PXCE. Questions have been raised regarding the accuracy of publicly disseminated information concerning, among other things: (1) An acquisition by the company; (2) the value of the company after the completion of the acquisition; and (3) the company's current and future financial condition.

The Commission is of the opinion that the public interest and the protection of investors require a suspension of trading in the securities of the above listed company.

Therefore, it is ordered, pursuant to Section 12(k) of the Securities Exchange Act of 1934, that trading in the above listed company is suspended for the period from 9:30 a.m. EDT, April 28, 2009 through 11:59 p.m. EDT, on May 11, 2009.

By the Commission.
Elizabeth M. Murphy,
Secretary.

[FR Doc. E9-10035 Filed 4-28-09; 4:15 pm]

BILLING CODE 8010-01-P